INTERNATIONAL TRADE COMMISSION

[Inv. No. 332-508]

Small and Medium-Sized Enterprises: Overview of Participation in U.S. Exports

AGENCY: United States International Trade Commission.

ACTION: Institution of investigation.

SUMMARY: Following receipt of a request on October 6, 2009, from the United States Trade Representative (USTR) under section 332(g) of the Tariff Act of 1930 (19 U.S.C. 1332(g)), the Commission instituted investigation No. 332-508, Small and Medium-Sized Enterprises: Overview of Participation in U.S. Exports, for the purpose of preparing the first of a series of three reports requested by the USTR relating to small and medium-sized enterprises.

DATES: January 12, 2010: Transmittal of Commission report to the USTR.

ADDRESSES: All Commission offices, including the Commission's hearing rooms, are located in the United States International Trade Commission Building, 500 E Street SW., Washington, DC. All written submissions should be addressed to the Secretary, United States International Trade Commission, 500 E Street SW., Washington, DC 20436. The public record for this investigation may be viewed on the Commission's electronic docket (EDIS) at http://www.usitc.gov/secretary/edis.htm.

FOR FURTHER INFORMATION CONTACT: Project Leaders Laura Bloodgood (202-708-4726 or laura.bloodgood@usitc.gov) or Alexander Hammer (202-205-3271 or alexander.hammer@usitc.gov) for information specific to this investigation. For information on the legal aspects of this investigation, contact William Gearhart of the Commission's Office of the General Counsel (202-205-3091 or william.gearhart@usitc.gov). The media should contact Margaret O'Laughlin, Office of External Relations (202-205-1819 or margaret.olaughlin@usitc.gov). Hearing-impaired individuals may obtain information on this matter by contacting the Commission's TDD terminal at 202-205-1810. General information concerning the Commission may also be obtained by accessing its Internet server (http://www.usitc.gov). Persons with mobility impairments who will need special assistance in gaining access to the Commission should contact the Office of the Secretary at 202-205-2000.

Background: In his letter the USTR requested, under the authority of section 332(g) of the Tariff Act of 1930, that the Commission provide three reports during the next 12 months relating to small- and medium-sized enterprises. In this notice the Commission is instituting the first of three investigations under section 332(g) for the purpose of preparing the first report, which is to be transmitted to the USTR by January 12, 2010. The Commission will institute separate investigations under section 332(g) at later dates for the purpose of preparing the second and third reports.

In the first report the Commission will, as requested, provide an overview of the current state of SMEs' participation in U.S. exports. The report will describe, to the extent possible, characteristics of SMEs, their exports, and their role in generating employment and economic activity in the U.S. economy. The report will focus on merchandise and services exports by U.S. SMEs, providing information on the value of SME exports, products and sectors involved, large markets for U.S. SMEs' exports, and how SME exports have changed over time with respect to these factors. The Commission will also seek to identify gaps in currently available data that may inhibit a more comprehensive understanding of SME participation in export trade.

In the second report the Commission will compare the exporting activity of SMEs in the United States and the European Union, identify barriers to exporting noted by U.S. SMEs and strategies used by SMEs to overcome special constraints and reduce trade costs, and identify the benefits to SMEs from increased export opportunities including those arising from free trade agreements and other trading arrangements. The USTR requested that the Commission transmit this report by July 6, 2010.

In the third report the Commission will, among other things, examine U.S. SMEs engaged in providing services, including the characteristics of firms that produce tradable services, growth in services exports, and the differences between SME and large services exporters. It will also examine U.S. goods and services exports by SMEs and identify trade barriers that may disproportionately affect SME export performance, as well as possible linkages between exporting and SME performance. In addition, the report will identify how data gaps might be overcome to enhance our understanding of SMEs in service sector exports. The USTR requested that the Commission transmit this report by October 6, 2010.

Public Hearing: The Commission does not plan to hold a public hearing in connection with this investigation, but expects to hold one or more hearings in the course of preparing the second and/or third reports. The time and place of those hearings will be announced at a later date.

Written Submissions: Interested parties are invited to file written submissions concerning this investigation. All written submissions should be addressed to the Secretary, and should be received not later than 5:15 p.m. on November 17, 2009. All written submissions must conform with the provisions of section 201.8 of the Commission's Rules of Practice and Procedure (19 CFR 201.8). Section 201.8 requires that a signed original (or a copy so designated) and fourteen (14) copies of each document be filed. In the event that confidential treatment of a document is requested, at least four (4) additional copies must be filed, in which the confidential information must be deleted (see the following paragraph for further information regarding confidential business information). The Commission's rules authorize filing submissions with the Secretary by facsimile or electronic means only to the extent permitted by section 201.8 of the rules (see Handbook for Electronic Filing Procedures, http://www.usitc.gov/secretary/fed_reg_notices/rules/documents/handbook_on_electronic_filing.pdf). Persons with questions regarding electronic filing should contact the Secretary (202-205-2000).

Any submissions that contain confidential business information must also conform with the requirements of section 201.6 of the Commission's Rules of Practice and Procedure (19 CFR 201.6). Section 201.6 of the rules requires that the cover of the document and the individual pages be clearly marked as to whether they are the “confidential” or “non-confidential” version, and that the confidential business information be clearly identified by means of brackets. All written submissions, except for confidential business information, will be made available for inspection by interested parties.

In his request letter, the USTR stated that his office intends to make the Commission's reports available to the public in their entirety, and asked that the Commission not include any confidential business information or national security classified information in the reports that the Commission transmits to his office. Any confidential business information received by the Commission in this investigation and used in preparing this report will not be published in a manner that would reveal the operations of the firm supplying the information.

Issued: October 23, 2009.
By order of the Commission.
Marilyn R. Abbott,
Secretary to the Commission.

[FR Doc. E9-25947 Filed 10-27-09; 8:45 am]

BILLING CODE 7020-02-P